DEPARTMENT OF EDUCATION

[CDFA No. 84.215F]

Physical Education for Progress Grant Program

AGENCY: Department of Education.

ACTION: Notice of final priority and selection criteria for Fiscal Year (FY) 2001.

SUMMARY: The Secretary announces the final priority and selection criteria under the Elementary and Secondary Education Act of 1965, Title X, Part L, Physical Education for Progress Grant Program. The Office of Elementary and Secondary Education will administer this grant competition. The Secretary takes this action to help initiate, expand, and improve physical education programs in local educational agencies.

EFFECTIVE DATE: This priority and selection criteria are effective June 18, 2001.

FOR FURTHER INFORMATION CONTACT: Connie Ann Deshpande, U.S. Department of Education, 400 Maryland Avenue, SW—Room 3E332, Washington, DC 20202-6123. Telephone: (202) 401-2140, email address: Connie.Deshpande@ed.gov.

If you use a telecommunications device for the deaf (TDD), you may call the Federal Information Relay Service (FIRS) at 1-888-877-8339.

Individuals with disabilities may obtain this document in an alternative format (e.g., Braille, large print, audiotape, or computer diskette) on request to the contact person listed at the beginning of this section.

Note: This notice does not solicit applications. In any year in which the Secretary chooses to use this final priority and selection criteria, we invite applications through a notice in the Federal Register. A notice inviting applications under this competition is published elsewhere in this issue of the Federal Register.

SUPPLEMENTARY INFORMATION:

General

In making awards under this grant competition, the Secretary shall ensure an equitable distribution of awards between local educational agencies serving urban and rural areas, and between local educational agencies serving large and small numbers of students. Contingent upon the availability of funds, the Secretary may make additional awards in FY 2002 from the rank-ordered list of nonfunded applications from this competition.

Administrative Costs

Not more than 5 percent of the grant funds made available to a local educational agency under this program in any fiscal year may be used for administrative costs.

Federal Share

The Federal share for grants under this program may not exceed 90 percent of the total cost of a project.

Prohibition Against Supplanting

Grant funds made available under this program shall be used to supplement and not supplant other Federal, State, and local funds available for physical education activities.

Participation of Home Schooled or Private School Students

An applicant for funds under this program may provide for the participation of home schooled children and their parents and teachers, or children enrolled in private non-profit elementary and secondary schools, and their parents and teachers. Applicants are not required to propose services for these groups.

Special Rule

Grant funds made available under this program shall not be used to fund extracurricular activities.

Absolute Priority: Under 34 CFR 75.105(c)(3) and Title X, Part L of the Elementary and Secondary Education Act of 1965 (20 U.S.C. 8351 et seq.), the Secretary gives an absolute preference to applications that meet the following priority, and funds under this competition only those applications that meet the following absolute priority: Local educational agency (LEA) projects to initiate, expand, and improve physical education programs in schools. Such programs must be designed to assist the LEA in making progress toward meeting State standards for physical education, by providing funds for training and education of teachers and staff, and for equipment and support, to enable students in one or more grades kindergarten through 12 to participate actively in physical education activities. Under this absolute priority, to be considered for funding, an applicant is required to:

(1) Have conducted a needs assessment of how well its current physical education program is enabling the LEA to attain State standards for physical education;

(2) Based on the results of that needs assessment, include in its application a description of how the proposed activities will help the LEA make progress toward meeting State standards for physical education; and;

(3) Set measurable goals and objectives for the proposed project and provide a description of how progress toward achieving goals will be measured annually.

Competitive Preference: Within the absolute priority in this notice, the Secretary gives preference to applications that meet the following competitive priority: Applicants that provide an assurance that at least one-half of the funding provided to them under this program will be used to benefit students who attend schools identified for improvement by their States, consistent with the requirements in Title I, Section 1116(c) of the Elementary and Secondary Education Act of 1965.

Under 34 CFR 75.105(c)(2) the Secretary awards 5 points to an application that meets this competitive priority. These points are in addition to any points the applicant earns under the selection criteria for the program.

Selection Criteria

The Secretary uses the following selection criteria to evaluate applications for new grants under this competition. The maximum score for all of these criteria is 100 points. The maximum score for each criterion or factor under that criterion is indicated in parentheses.

(1) Need for project. (20 points)

In determining the need for the proposed project, the following factors are considered:

(a) The magnitude of the need for the services to be provided or the activities to be carried out by the proposed project. (10 points)

(b) The extent to which specific gaps or weaknesses in services, infrastructure, or opportunities have been identified and will be addressed by the proposed project, including the nature and magnitude of those gaps or weaknesses. (10 points)

(2) Significance. (20 points)

In determining the significance of the proposed project, the following factors are considered:

(a) The likelihood that the proposed project will result in system change or improvement. (10 points)

(b) The extent to which the proposed project involves the development or demonstration of promising new strategies that build on, or are alternatives to, existing strategies. (5 points)

(c) The importance or magnitude of the results or outcomes likely to be attained by the proposed project, especially improvements in teaching and student achievement. (5 points)

(3) Quality of the project design. (45 points)

In determining the quality of the design of the proposed project, the following factors are considered:

(a) The extent to which the proposed activities constitute a coherent, sustained program of training in the field. (20 points)

(b) The extent to which the design of the proposed project reflects up-to-date knowledge from research and effective practice. (10 points)

(c) The extent to which the goals, objectives, and outcomes to be achieved by the proposed project are clearly specified and measurable. (5 points)

(d) The extent to which the design of the proposed project is appropriate to, and will successfully address, the needs of the target population or other identified needs. (10 points)

(4) Quality of the project evaluation. (15 points)

In determining the quality of the evaluation, the following factors are considered:

(a) The extent to which the methods of evaluation are thorough, feasible, and appropriate to the goals, objectives, and outcomes of the proposed project. (5 points)

(b) The extent to which the methods of evaluation include the use of objective performance measures that are clearly related to the intended outcomes of the project and will produce quantitative and qualitative data to the extent possible. (5 points)

(c) The extent to which the methods of evaluation will provide performance feedback and permit periodic assessment of progress toward achieving intended outcomes. (5 points)

Waiver of Proposed Rulemaking

Under the Administrative Procedure Act (5 U.S.C. 553), the Department generally offers interested parties the opportunity to comment on a proposed priority and selection criteria. However, in order to make timely grant awards in fiscal year (FY) 2001, the Secretary has decided to issue this notice without first publishing a proposed priority and selection criteria for public comment. This priority will apply to the FY 2001 grant competition only. The Secretary takes this action under section 437(d)(1) of the General Education Provisions Act.

Intergovernmental Review

This program is subject to Executive Order 12372 and the regulations in 34 CFR part 79. One of the objectives of the Executive order is to foster an intergovernmental partnership and a strengthened federalism. The Executive order relies on processes developed by State and local governments for coordination and review of proposed Federal financial assistance.

This document provides early notification of our specific plans and actions for this program.

Applicable Program Regulations: (a) The Education Department General Administrative Regulations in 34 CFR parts 74, 75, 77, 79, 80, 81, 82, 85, 97, 98, and 99. (b) The regulations in 34 CFR part 299.

Electronic Access to This Document

You may view this document, as well as all other Department of Education documents published in the Federal Register, in text or Adobe Portable Document Format (PDF) on the Internet at the following site: www.ed.gov/legislation/FedRegister

To use PDF, you must have Adobe Acrobat Reader, which is available free at the previous site. If you have questions about using PDF, call the U.S. Government Printing Office (GPO) toll free at 1-888-293-6498; or in the Washington, DC area at (202) 512-1530.

Note: The official version of this document is the document published in the Federal Register. Free Internet access to the official edition of the Federal Register and the Code of Federal Regulations is available on GPO Access at: http://www.access.gpo.gov/nara/index.html

(Catalog of Federal Domestic Assistance Number 84.215F, Physical Education for Progress Grant Program)

Program Authority: 20 U.S.C. 8351.

Dated: April 27, 2001.
Thomas M. Corwin,
Acting Deputy Assistant Secretary for Elementary and Secondary Education.

[FR Doc. 01-11441 Filed 5-4-01; 8:45 am]

BILLING CODE 4000-01-U